DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 19, 2022, OFAC determined that the property and interests in property subject to U.S. jurisdiction of the following persons are blocked under the relevant sanctions authority listed below.

Individual

1. OREKHOV, Yury Yuryevich, One at Palm Jumeirah, SA Unit 701, Blue Water Island, Dubai, United Arab Emirates; DOB 30 Mar 1980; POB Almaty, Kazakhstan; nationality Russia; citizen Russia; Gender Male; Passport 756454133 (Russia); alt. Passport 531182863 (Russia) (individual) [RUSSIA-EO14024].

Designated pursuant to section 1(a)(i) of Executive Order 14024 of April 15, 2021, “Blocking Property With Respect To Specified Harmful Foreign Activities of the Government of the Russian Federation,” 86 FR 20249 (April 19, 2021) (E.O. 14024) for operating or having operated in the technology sector of the Russian Federation economy.

Entities

1. NDA NORD-DEUTSCHE INDUSTRIEANLAGENBAU GMBH, Rothenbaumchaussee 83, D-20148, Hamburg, Germany; Organization Established Date 27 Jun 2007; Registration Number HRB102166 (Germany) [RUSSIA-EO14024].

Designated pursuant to section 1(a)(i) of E.O. 14024 for operating or having operated in the technology sector of the Russian Federation economy.

2. OPUS ENERGY TRADING LLC, Aspin Commercial Tower Trade Center, First 335-117, Dubai, United Arab Emirates; Organization Established Date 02 Mar 2022; Registration Number 1689571 (United Arab Emirates) [RUSSIA-EO14024] (Linked To: OREKHOV, Yury Yuryevich).

Designated pursuant to section 1(a)(vii) of E.O. 14024 for being owned or controlled by, or having acted or purported to act for or on behalf of, directly or indirectly, Yury Yuryevich Orekhov, a person whose property and interests in property are blocked pursuant to E.O. 14024.

Dated: October 19, 2022.
Andrea M. Gacki,
Director, Office of Foreign Assets Control, U.S. Department of the Treasury.

[FR Doc. 2022-23179 Filed 10-24-22; 8:45 am]

BILLING CODE 4810-AL-P